FEDERAL COMMUNICATIONS COMMISSION

Sunshine Act Meeting; Open Commission Meeting; Tuesday, March 16, 2010

Date: March 9, 2010.

The Federal Communications Commission will hold an Open Meeting on the subject listed below on Tuesday, March 16, 2010, which is scheduled to commence at 10:30 in Room TW-C305, at 445 12th Street, SW., Washington, DC.

With respect to the item on the open meeting agenda, the Commission, on its own motion, is waiving the prohibition on ex parte presentations that normally applies during the Sunshine period. 47 C.F.R. §§ 1.1200(a), 1.1203. Parties that make ex parte presentations that would otherwise be subject to disclosure requirements must continue to disclose them during the Sunshine period. Id. § 1.1206(b).

The meeting will include a presentation of the National Broadband Plan.

ITEM NO. | BUREAU/GROUP | SUBJECT
1 | WIRELINE COMPETITION | TITLE: A National Broadband Plan for Our Future (GN Docket No. 09-51) SUMMARY: The Commission will consider a Broadband Mission Statement containing goals for U.S. broadband policy.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary, Office of the Secretary, Office of Managing Director.

[FR Doc. 2010-5539 Filed 3-10-10; 11:15 am]

BILLING CODE 6712-01-S